DEPARTMENT OF EDUCATION

[Docket ID ED-2023-FSA-0094]

Privacy Act of 1974; Matching Program

AGENCY: Federal Student Aid (FSA), Department of Education.

ACTION: Notice of a new matching program.

SUMMARY: Pursuant to the Privacy Act of 1974, as amended by the Computer Matching and Privacy Protection Act of 1988 and the Computer Matching and Privacy Protection Amendments of 1990 (Privacy Act), and Office of Management and Budget (OMB) guidance on the conduct of matching programs, notice is hereby given of the re-establishment of the matching program between the U.S. Department of Education (Department or ED) (recipient agency) and the U.S. Department of Veterans Affairs (VA) (source agency). The current 18-month Computer Matching Agreement (CMA) between ED and VA was recertified for an additional 12 months on January 3, 2023, and will automatically expire on January 2, 2024.

DATES: This CMA will supersede the current matching program between the parties. The period of this matching program is estimated to cover the 18-month period from December 27, 2023, through June 26, 2025. However, the matching program will become applicable at the later of the following two dates: December 27, 2023, or 30 days after the publication of this notice, on November 24, 2023, unless comments have been received from interested members of the public requiring revision to and republication of the notice. The matching program will continue for 18 months after the applicable date and may be extended for up to an additional 12 months if the respective agency Data Integrity Boards (DIBs) determine that the conditions specified in 5 U.S.C. 552a(o)(2)(D) have been met.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “FAQ” tab.

Privacy Note: FSA's policy is generally to make comments received from members of the public available for public viewing in their entirety on the Federal eRulemaking Portal at www.regulations.gov. Therefore, commenters should be careful to include in their comments only information that they wish to make publicly available. FSA's policy is that commenters should not include in their comments any information that identifies other individuals or that permits readers to identify other individuals. If, for example, your comment describes an experience of someone other than yourself, please do not identify that individual or include information that would allow readers to identify that individual. FSA reserves the right to redact at any time any information in comments that identifies other individuals, includes information that would allow readers to identify other individuals, or includes threats of harm to another person.

FOR FURTHER INFORMATION CONTACT: Gerard Duffey, Management and Program Analyst, U.S. Department of Education, Federal Student Aid, Philadelphia, PA 19107. Telephone: (215) 656-3249.

If you are deaf, hard of hearing, or have a speech disability and wish to access telecommunications relay services, please dial 7-1-1.

SUPPLEMENTARY INFORMATION: In accordance with the Privacy Act; OMB “Final Guidance Interpreting the Provisions of Public Law 100-503, the Computer Matching and Privacy Protection Act of 1988,” published in the Federal Register on June 19, 1989 (54 FR 25818); and OMB Circular No. A-108, “Federal Agency Responsibilities for Review, Reporting, and Publication Under the Privacy Act,” published in the Federal Register on December 23, 2016 (81 FR 94424), notice is hereby provided of the re-establishment of the matching program between ED and VA.

Participating Agencies

ED and VA.

Authority for Conducting the Matching Program

ED is authorized to participate in the matching program under sections 480(c)(1) and 480(d)(1)(D) of the Higher Education Act of 1965, as amended (HEA) (20 U.S.C. 1087vv(c)(1) and (d)(1)(D)). VA is authorized to participate in the matching program under 38 U.S.C. 523.

Purpose(s)

The purpose of this matching program is to assist the Secretary of Education (the Secretary) with verification of a veteran's status during the processing and review of applications for financial assistance under title IV of the HEA.

The Secretary is authorized by the HEA to administer programs under title IV of the HEA and to enforce the terms and conditions of the HEA.

Section 480(c)(1) of the HEA defines the term “veteran” to mean “any individual who—(A) has engaged in the active duty in the United States Army, Navy, Air Force, Marines, or Coast Guard; and (B) was released under a condition other than dishonorable.” (20 U.S.C. 1087vv(c)(1)). Under section 480(d)(1)(D) of the HEA, an applicant who is a veteran (as defined in section 480(c)(1) of the HEA) is considered an independent student for purposes of title IV, HEA program assistance eligibility, and, therefore, does not have to provide parental income and asset information to apply for title IV, HEA program assistance. (20 U.S.C. 1087vv(d)(1)(D)).

Categories of Individuals

Individuals who have completed the Free Application for Federal Student Aid (FAFSA®) and have indicated that they are veterans.

Categories of Records

ED will disclose to the VA the Social Security number (SSN), first and last name, and date of birth (DOB) of each applicant for financial assistance under title IV of the HEA who indicates veteran status in their application.

VA will compare these data elements against the first and last name, SSN, and DOB of veterans. As a result of the match, VA will assign one of four values to the applicant records: (1) veteran status confirmed; (2) record found on database, but not a qualifying veteran; (3) record not found on database; or (4) record found on database, but applicant on active duty. VA then will transmit applicant records back to ED.

System(s) of Records

ED systems of records: (1) Aid Awareness and Application Processing (AAAP) (18-11-21), last fully published in the Federal Register on June 15, 2023 (88 FR 39233); and (2) Common Origination and Disbursement (COD) System (18-11-02) last fully published in the Federal Register on June 28, 2023 (88 FR 41942). (Note: the ED Central Processing System (CPS) and Free Application for Federal Student Aid (FAFSA) Processing System (FPS) are the ED information systems that process FAFSA data from the Aid Awareness and Application Processing system of records. CPS will process this data through September 30, 2024, for Award Year (AY) 2023-24. FPS will become operational on or after December 1, 2023, and begin processing FAFSA data for AY 2024-25. After September 30, 2024, CPS will be decommissioned and will be fully replaced by FPS within AAAP. FPS will process data for all AYs thereafter. ED uses the COD System to determine the amounts and types of Title IV, HEA program assistance that an applicant for Title IV, HEA benefits will receive.)

VA system of records: “Compensation, Pension, Education, and Vocational Rehabilitation and Employment Records—VA” (58VA21/22/28), last fully published in the Federal Register at 86 FR 61858 (November 8, 2021).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2023-25999 Filed 11-22-23; 8:45 am]

BILLING CODE 4000-01-P